DEPARTMENT OF HEALTH AND HUMAN SERVICES

Health Resources and Services Administration

Request for Comments on Draft Recommendation Statement on Preventing Obesity in Midlife Women, as Part of the HRSA-Supported Women's Preventive Services Guidelines

AGENCY: Health Resources and Services Administration (HRSA), Department of Health and Human Services (HHS).

ACTION: Notice.

SUMMARY: This notice seeks public comments on a draft recommendation statement on preventing obesity in midlife women, as part of the HRSA-supported Women's Preventive Services Guidelines (“Guidelines”), through a national cooperative agreement, the Women's Preventive Services Initiative (WPSI). The WPSI recommends counseling midlife women, aged 40 to 60 years, with normal or overweight BMI (18.5-29.9 kg/m2) to maintain weight or limit weight gain to prevent obesity. Counseling may include individualized discussion of healthy eating and physical activity. Under Section 2713 of the Public Health Service Act, as added by the Patient Protection and Affordable Care Act, non-grandfathered group health plans and non-grandfathered group and individual health insurance issuers must include coverage, without cost sharing, for certain preventive services under that section, including those provided for in the Guidelines.

DATES: Members of the public are invited to provide written comments no later than December 9, 2020. All comments received on or before this date will be reviewed and considered by the WPSI Multidisciplinary Steering Committee, and provided to HRSA for further consideration in determining the recommended updates that it will support.

ADDRESSES: Members of the public interested in providing comments can do so by accessing the initiative's web page at https://www.womenspreventivehealth.org/.

FOR FURTHER INFORMATION CONTACT: Kimberly Sherman, HRSA, Maternal and Child Health Bureau, telephone (301) 443-8283 or email: wellwomancare@hrsa.gov.

SUPPLEMENTARY INFORMATION: The HRSA-supported Women's Preventive Services Guidelines were originally established in 2011 based on recommendations from an HHS commissioned study by the Institute of Medicine, now known as the National Academy of Medicine (NAM). Since then, there have been advancements in science and gaps identified in the existing guidelines, including a greater emphasis on practice-based clinical considerations. HRSA awarded a 5-year cooperative agreement in March 2016 (HRSA-16-057) to convene a coalition representing clinicians, academics, and consumer-focused health professional organizations to conduct a rigorous review of current scientific evidence and recommend updates to existing guidelines, in accordance with the framework created by the NAM Clinical Practice Guidelines We Can Trust expert committee. The American College of Obstetricians and Gynecologists was awarded the cooperative agreement and formed an expert panel called the Women's Preventive Services Initiative.

Under section 2713 of the Public Health Service Act, non-grandfathered group health plans and issuers of non-grandfathered group and individual health insurance coverage are required to cover specified preventive services without a copayment, coinsurance, deductible, or other cost sharing, including preventive care and screenings for women as provided for in comprehensive guidelines supported by HRSA for this purpose. Non-grandfathered group health plans and health insurance issuers offering non-grandfathered group or individual coverage are required to provide coverage without cost sharing for preventive services listed in the updated HRSA-supported Guidelines.

Under HRSA's cooperative agreement with the American College of Obstetricians and Gynecologists, the WPSI administers processes which assure public input and transparency, as well as participation by patient and consumer representatives, in the development of these Guidelines.

Thomas J. Engels,
Administrator.

[FR Doc. 2020-24819 Filed 11-6-20; 8:45 am]

BILLING CODE 4165-15-P